DEPARTMENT OF LABOR

Employment and Training Administration

[TA-W-54,645]

Precision Interconnect, Division of Tyco Electronics, Wilsonville, OR; Notice of Termination of Investigation

Pursuant to section 221 of the Trade Act of 1974, as amended, an investigation was initiated on April 1, 2004, in response to a worker petition filed by a state agency on behalf of workers at Precision Interconnect, a division Tyco Electronics, Wilsonville, Oregon.

The petitioner has requested that the petition be withdrawn. Consequently, the investigation has been terminated.

Signed in Washington, DC this 19th day of April, 2004.
Elliott S. Kushner,
Certifying Officer, Division of Trade Adjustment Assistance.

[FR Doc. E4-1002 Filed 5-3-04; 8:45 am]

BILLING CODE 4510-13-P